ENVIRONMENTAL PROTECTION AGENCY

[EPA-HQ-TRI-2013-0281; FRL-9904-82-OEI]

Petition To Add the Oil and Gas Extraction Industry, Standard Industrial Classification Code 13, to the List of Facilities Required To Report Under the Toxics Release Inventory; Notice of Receipt of Petition

AGENCY: Environmental Protection Agency (EPA).

ACTION: Notice of receipt of petition.

SUMMARY: The Environmental Integrity Project (EIP) and sixteen other organizations submitted a petition to the Environmental Protection Agency (EPA), dated October 24, 2012, requesting that EPA add the Oil and Gas Extraction sector, Standard Industrial Classification (SIC) code 13, to the scope of sectors covered by the Toxics Release Inventory (TRI) under section 313 of the Emergency Planning and Community Right-To-Know Act (EPCRA). The petition also requests that EPA publish the petition in the Federal Register. This Federal Register Notice provides notice of receipt of this petition, along with the Docket Identification Number that can be used to view the petition and related documents. EPA is not soliciting public comment regarding this notice.

FOR FURTHER INFORMATION CONTACT: Gilbert Mears, Toxics Release Inventory Program Division, Office of Environmental Information (mail code 2844T), Environmental Protection Agency, 1200 Pennsylvania Avenue NW., Washington, DC 20460; telephone number: (202) 566-0954; fax number: (202) 566-0715; email address: mears.gilbert@epa.gov.

SUPPLEMENTARY INFORMATION:

I. General Information

A. How can I get copies of this document and other related information?

1. Docket. EPA has established a docket for this action under Docket ID No EPA-HQ-TRI-2013-0281. Publicly available docket materials are available either electronically through www.regulations.gov or in hard copy at the “Petition to Add the Oil and Gas Extraction Industry, Standard Industrial Classification Code 13, to the List of Facilities Required To Report under the Toxics Release Inventory” Docket in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the “Petition to Add the Oil and Gas Extraction Industry, Standard Industrial Classification Code 13, to the List of Facilities Required To Report under the Toxics Release Inventory” Docket is (202) 566-1752.

2. Electronic Access. You may access this Federal Register document electronically from the Government Printing Office under the “Federal Register” listings at FDSys (http://www.gpo.gov/fdsys/browse/collection.action?collectionCode=FR).

Dated: December 16, 2013.
Arnold E. Layne,
Director, Office of Information Analysis and Access, Office of Environmental Information.

[FR Doc. 2013-31484 Filed 1-2-14; 8:45 am]

BILLING CODE 6560-50-P